DEPARTMENT OF LABOR

Office of the Secretary

Senior Executive Service; Appointment of Members to the Performance Review Board

Title 5 U.S.C. 4314(c)(4) provides that Notice of the Appointment of an individual to serve as a member of the Performance Review Board of the Senior Executive Service shall be published in the Federal Register.

The following individuals are hereby appointed to serve on the Department's Performance Review Board: John McWilliam, Felix Quintana, Corlis Sellers.

For Further Information Contact: Ms. Andrea Burckman, Director, Office of Executive Resources and Personnel Security, Room C5508, U.S. Department of Labor, Frances Perkins Building, 200 Constitution Avenue, NW., Washington, DC 20210, telephone: (202) 693-7628.

Signed at Washington, DC., this 3rd day of November, 2008.
Elaine L. Chao,
Secretary of Labor.

[FR Doc. E8-26640 Filed 11-6-08; 8:45 am]

BILLING CODE 4510-23-P